DEPARTMENT OF AGRICULTURE

Animal and Plant Health Inspection Service

[Docket No. APHIS-2010-0114]

Notice of Decision To Authorize the Importation of Fresh Edible Flowers of Izote, Immature Inflorescences of Pacaya, Immature Inflorescences of Chufle, and Fresh Leaves of Chipilin From El Salvador Into the Continental United States

AGENCY: Animal and Plant Health Inspection Service, USDA.

ACTION: Notice.

SUMMARY: We are advising the public of our decision to authorize the importation into the continental United States of fresh edible flowers of izote, immature inflorescences of pacaya, immature inflorescences of chufle, and fresh leaves of chipilin from El Salvador. Based on the findings of four pest risk analyses, which we made available to the public for review and comment through a previous notice, we believe that the application of one or more designated phytosanitary measures will be sufficient to mitigate the risks of introducing or disseminating plant pests or noxious weeds via the importation of fresh edible flowers of izote, immature inflorescences of pacaya, immature inflorescences of chufle, and fresh leaves of chipilin from El Salvador.

DATES: Effective Date: July 26, 2011.

FOR FURTHER INFORMATION CONTACT: Mr. Phillip B. Grove, Regulatory Coordinator, Regulatory Coordination and Compliance, PPQ, APHIS, 4700 River Road Unit 156, Riverdale, MD 20737-1236; (301) 734-6280.

SUPPLEMENTARY INFORMATION:

Background

Under the regulations in “Subpart—Fruits and Vegetables” (7 CFR 319.56-1 through 319.56-50, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis, can be safely imported subject to one or more of the designated phytosanitary measures listed in paragraph (b) of that section. Under that process, APHIS publishes a notice in the Federal Register announcing the availability of the pest risk analysis that evaluates the risks associated with the importation of a particular fruit or vegetable. Following the close of the 60-day comment period, APHIS may authorize the importation of the fruit or vegetable subject to the identified designated measures if: (1) No comments were received on the pest risk analysis; (2) the comments on the pest risk analysis revealed that no changes to the pest risk analysis were necessary; or (3) changes to the pest risk analysis were made in response to public comments, but the changes did not affect the overall conclusions of the analysis and the Administrator's determination of risk.

In accordance with that process, we published a notice ¹ in the Federal Register on January 25, 2011 (76 FR 4278-4279, Docket No. APHIS-2010-0114), in which we announced the availability, for review and comment, of four pest risk analyses that evaluate the risks associated with the importation into the continental United States of edible fresh flowers of izote (Yucca guatemalensis Baker), immature inflorescences of pacaya (Chamaedorea tepejilote Liem.), immature inflorescences of chufle (Calathea macrosepala K. Schumm), and fresh leaves of chipilin (Crotalaria longirostrata Hook and Arn.) from El Salvador. We solicited comments on the notice for 60 days ending on March 28, 2011. We received three comments by that date, from a State department of natural resources, a State department of agriculture, and the Guatemalan department of agriculture.

¹ To view the notice, the pest risk analyses, and the comments we received, go to http://www.regulations.gov/fdmspublic/component/main?main=DocketDetail&d=APHIS-2010-0114.

One commenter asked that we expand the pest risk analyses to allow for the importation of fresh edible flowers of izote, immature inflorescences of pacaya, immature inflorescences of chufle, and fresh leaves of chipilin from Guatemala in addition to El Salvador.

APHIS would be willing to work with the national plant protection organization (NPPO) of Guatemala in regards to this issue. In order for those commodities to be considered for importation, the Government of Guatemala must submit a formal request to APHIS, followed by submission of the information required in 7 CFR 319.5(d) by the Guatemalan NPPO.

The remaining commenters raised concerns regarding the risks associated with the importation of fresh leaves of chipilin, fresh flowers of izote, and immature inflorescences of pacaya from El Salvador. One commenter stated that fresh leaves of chipilin from El Salvador should not be allowed into the United States since chipilin, as a legume, may serve as a potential host for soybean rust or other diseases or pests of soybeans. The commenter additionally opposed importation of fresh leaves of chipilin if chipilin has the potential to become established as an invasive species.

Fresh leaves of chipilin were identified as a potential host for the soybean rusts Phakopsora meibomiae and Uromyces crotalariae in the pest risk analysis for that commodity. The phytosanitary risks posed by these pests are addressed with the following mitigations: (1) Each consignment of fresh leaves of chipilin must be inspected by the NPPO of El Salvador and accompanied by a phytosanitary certificate issued by the NPPO stating that the fresh leaves of chipilin in that consignment have been inspected and found free of Phakopsora meibomiae and Uromyces crotalariae; and (2) Each shipment is subject to inspection upon arrival at the port of entry in the United States. Rust symptoms, which consist of tan to reddish brown lesions, are macroscopic in nature and may be easily found during inspections. If the commenter is aware of additional diseases or pests of fresh leaves of chipilin that were not included in the pest risk analysis, we would consider this new information for further analysis. In addition, since we will be importing only nonpropagative fresh leaves of chipilin for consumption, we consider the risk of potential establishment of chipilin as an invasive species to be negligible.

The second commenter did not support the importation of fresh flowers of izote from El Salvador. The commenter stated that there were no mitigation measures listed in the PRA for the gray pineapple mealybug (Dysmicoccus neobrevipes). In addition, the commenter did not support the importation of immature inflorescences of pacaya from El Salvador. The commenter stated that there were similarly no mitigation measures identified in the PRA for the bean slug (Sarasinula plebeia).

Both the gray pineapple mealybug and the bean slug are covered in our risk management documents. The phytosanitary risks posed by these pests are addressed by the following mitigations: (1) Each consignment of fresh flowers of izote or immature inflorescences of pacaya must be inspected by the NPPO of El Salvador and accompanied by a phytosanitary certificate issued by the NPPO stating that the fresh flowers of izote or immature inflorescences of pacaya in that consignment have been inspected and found free of the gray pineapple mealybug or the bean slug; and (2) Each shipment is subject to inspection upon arrival at the port of entry in the United States. Inspection is considered effective at finding external feeding pests such as the gray pineapple mealybug and the bean slug and excluding infested shipments from entering commerce. The symptoms of such infestations are macroscopic in nature. Gray pineapple mealybug infestation causes wilt, which is characterized by discoloration of leaves to yellows or reds and the loss of rigidity in leaves. Bean slug infestation is accompanied by leaf damage, which is the result of feeding.

Therefore, in accordance with the regulations in 319.56-4(c)(2)(ii), we are announcing our decision to authorize the importation into the United States of fresh edible flowers of izote, immature inflorescences of pacaya, immature inflorescences of chufle, and fresh leaves of chipilin from El Salvador provided that:

• The flowers, immature inflorescences, or leaves are subject to inspection upon arrival in the United States and comply with all applicable provisions of 319.56-3;

• The flowers, immature inflorescences, or leaves are inspected in the country of origin by an inspector or an official of the NPPO of El Salvador, and have been found free of one or more specific quarantine pests identified by the risk assessment as likely to follow the import pathway; and

• The flowers, immature inflorescences, or leaves are imported as commercial consignments only.

These conditions will be listed in the Fruits and Vegetables Import Requirements database (available at http://www.aphis.usda.gov/favir). In addition to these specific measures, the fresh edible flowers of izote, immature inflorescences of pacaya, immature inflorescences of chufle, and fresh leaves of chipilin from El Salvador will be subject to the general requirements listed in 319.56-3 that are applicable to the importation of all fruits and vegetables.

Authority: 7 U.S.C. 450, 7701-7772, and 7781-7786; 21 U.S.C. 136 and 136a; 7 CFR 2.22, 2.80, and 371.3.

Done in Washington, DC, this 20th day of July 2011.
Kevin Shea,
Acting Administrator, Animal and Plant Health Inspection Service.

[FR Doc. 2011-18848 Filed 7-25-11; 8:45 am]

BILLING CODE 3410-34-P